ENVIRONMENTAL PROTECTION AGENCY

[Docket ID No.: EPA-RO8-OW-2008; FRL-8705-1]

Public Water System Supervision Program Variance and Exemption Review for the State of North Dakota

AGENCY: Environmental Protection Agency (EPA).

ACTION: Notice of Results Review.

SUMMARY: The Environmental Protection Agency (EPA) Region 8 has completed its statutory review of variances and exemptions issued by the State of North Dakota under the Safe Drinking Water Act (SDWA), Public Water System Supervision (PWSS) program. This review was announced in the Federal Register published March 12, 2008 (73 FR 13229-01). The Federal Register provided the public with an opportunity to comment. EPA Region 8 received no comments related to variances and/or exemptions issued or proposed by the State of North Dakota.

EPA Region 8 determined as a result of this review that the State of North Dakota did not abuse its discretion on any variance or exemption granted or proposed as of the date of its on-site review on March 31, 2008.

FOR FURTHER INFORMATION CONTACT: Breann Bockstahler at 303-312-6034 or e-mail at Bockstahler.Breann@epa.gov.

SUPPLEMENTARY INFORMATION: North Dakota has an EPA approved program for primary enforcement authority for the PWSS program, pursuant to section 1413 of SDWA, 42 U.S.C. 300g-2 and 40 CFR part 142.

A. Why Do States Issue Variances and Exemptions?

States with primary PWSS enforcement authority are authorized to grant variances and exemptions from the National Primary Drinking Water Regulations to specific public water systems provided these variances and exemptions meet the requirements of SDWA sections 1415 and 1416 and are protective of public health, 42 U.S.C. 300g-4 and 300g-5.

B. Why Is a Review of Variances and Exemptions Necessary?

The SDWA requires that EPA periodically review State-issued variances and exemptions to determine whether the State has abused its discretion in a substantial number of cases and to publish the results of that review in the Federal Register, 42 U.S.C. 300g-4(a)(1)(F), 42 U.S.C. 300g-5(d).

Dated: July 23, 2008.
Judith Wong,
Acting Deputy Regional Administrator, EPA Region 8.

[FR Doc. E8-18955 Filed 8-14-08; 8:45 am]

BILLING CODE 6560-50-P